INTERNATIONAL TRADE COMMISSION

[Investigation No. 337-TA-1286]

Certain Oil-Vaping Cartridges, Components Thereof, and Products Containing the Same; Institution of Investigation

AGENCY: U.S. International Trade Commission.

ACTION: Notice.

SUMMARY: Notice is hereby given that a complaint was filed with the U.S. International Trade Commission on October 4, 2021, under section 337 of the Tariff Act of 1930, as amended, on behalf of Shenzhen Smoore Technology Limited of China. Supplements were filed on October 8, 2021, and October 21, 2021. The complaint, as supplemented, alleges violations of section 337 based upon the importation into the United States, the sale for importation, and the sale within the United States after importation of certain oil-vaping cartridges, components thereof, and products containing the same by reason of infringement of: (1) Certain claims of Patent No. 10,357,623 (“the '623 patent”); U.S. Patent No. 10,791,763 (“the '763 patent”); U.S. Patent No. 10,791,762 (“the '762 patent”); and (2) U.S. Registered Trademark No. 5,633,060 (“the '060 mark”). The complaint further alleges that an industry in the United States exists as required by the applicable Federal Statute. The complainant requests that the Commission institute an investigation and, after the investigation, issue a limited exclusion order and a cease and desist order.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION: Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on November 3, 2021, ordered that—

(1) Pursuant to subsection (b) of section 337 of the Tariff Act of 1930, as amended, an investigation be instituted to determine whether there is a violation of subsections (a)(1)(B) and (C) of section 337 in the importation into the United States, the sale for importation, or the sale within the United States after importation of certain products identified in paragraph (2) by reason of infringement of one or more of claims 1-3, 5, and 6 of the '623 patent; claims 1, 2, and 7 of the '762 patent; claims 1 and 11 of the '763 patent; and the `060 mark, and whether an industry in the United States exists as required by subsection (a)(2) of section 337;

(2) Pursuant to section 210.10(b)(1) of the Commission's Rules of Practice and Procedure, 19 CFR 210.10(b)(1), the plain language description of the accused products or category of accused products, which defines the scope of the investigation, is “oil-vaping cartridges having a liquid reservoir for containing a vaporizable oil;”

(3) For the purpose of the investigation so instituted, the following are hereby named as parties upon which this notice of investigation shall be served:

(a) The complainant is:

Shenzhen Smoore Technology Limited, Block 16, Dongcai Industry Park, Gushu Village, Bao'an District, Shenzhen, China.

(b) The respondents are the following entities alleged to be in violation of section 337, and are the parties upon which the complaint is to be served:

BBTank USA, LLC, 213 Secor Road #583, Lambertville, MI 48144.

Glo Extracts, 6230 Wilshire Blvd., Los Angeles, CA 90048.

BulkCarts.com, 42010 Koppernick Road, Ste 114, Canton, MI 48187.

Greenwave Naturals LLC, 11800 Silkwood Cove, Austin, TX 78739.

BoldCarts.com, 1810 W 4th St., Tempe, AZ 85281.

Bold Crafts, Inc., 420 Goddard Ave., Irvine, CA 92618.

Blinc Group Holdings, LLC, 40 Fulton Street, 6 Floor, New York, NY 10038.

Jonathan Ray Carfield, d/b/a AlderEgo Wholesale, AlderEgo Holdings, Inc. and AlderEgo Group, Limited a/k/a AVD Holdings Limited, Apt. 2702, Unit 1, Block A, Tianyuan Building 5, Gangxia Center, Futian District, Shenzhen 518016 Guangdong, China.

Hanna Carfield, PO Box 7010, Tacoma, Washington 98417.

Next Level Ventures, LLC, 3131 Western Ave., Ste 325, Seattle, WA 98121.

Advanced Vapor Devices, LLC, 1230 Long Beach Ave., Los Angeles, CA 90021.

avd710.com, 3131 Western Ave., Suite 325, Seattle, WA 98121.

AlderEgo Group Limited (“AEG”), Room 21, Unit A, 11F, Tin Wui Industrial Building, No. 3 Hing Wong Street, Tuen Mun, N.T., Hong Kong.

A&A Global Imports, Inc. d/b/a Marijuana Packaging, 3359 East 50th Street, Vernon, CA 90058.

Bulk Natural, LLC d/b/a True Terpenes, 524 E Burnside Street, Suite 600, Portland, OR 97214.

Brand King, LLC, 717 Del Paso Road, Sacramento, CA 95834.

ZTCSMOKE USA Inc., 599B West John Sims Pkwy., Niceville, FL 35278.

headcandysmokeshop.com, 200-2288 No. 5 Road, Richmond, BC V6X 2T1 Canada.

Head Candy Enterprise Ltd., 121-618 East Kent Ave. South, Vancouver, BC V5X 0B1, Canada.

Green Tank Technologies Corp., 102-135 Liberty Street, Toronto, ON, M6K 1A7, Canada.

Cannary Packaging Inc., 9-1415 Hunter Court Kelowna BC, V1X 6E6, Canada.

Cannary LA, 2901 Gardena Avenue, Signal Hill, CA 90755.

dcalchemy.com, 10645 N Tatum Blvd., Suite 200, Phoenix, AZ 85028.

DC Alchemy, LLC, 10645 N Tatum Blvd., Suite 200, Phoenix, AZ 85028.

Cartridgesforsale.com, P.O. Box 971024, Ypsilanti, MI 48197.

HW Supply, LLC, 324 Airport Industrial Dr., Ypsilanti, MI, 48198.

International Vapor Group, LLC, 14300 Commerce Way, Miami Lakes, FL 33016.

Obsidian Supply, Inc., 16 Technology Dr. #103, Irvine, CA 92618.

Ygreeninc.com, 671 Brea Canyon Road, Suite-2, Walnut, CA 91789.

Ygreen Inc., 671 Brea Canyon Road, Suite-2, Walnut, CA 91789.

Atmos Nation LLC, 4800 SW 51st Street, Suite 106, Davie, FL 33314.

shopbvv.com, 1251 Frontenac Road, Suite 150, Naperville, IL 60563.

Best Value Vacs, LLC, 1251 Frontenac Road, Suite 150, Naperville, IL 60563.

Royalsupplywholesale.com, 5432 Geary Blvd., Suite 321, San Francisco, CA 94121.

Customcanabisbranding.com, 5432 Geary Blvd., Ste. 321, San Francisco, CA 94121.

CLK Global, Inc., 5432 Geary Blvd., Ste. 321, San Francisco, CA 94121.

iKrusher.com, 11818 Clark Street, Arcadia, CA 91006.

The Calico Group Inc., 2801 Via Fortuna Suite 675, Austin, TX 78746.

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: November 4, 2021.
Lisa Barton,
Secretary to the Commission.

[FR Doc. 2021-24516 Filed 11-9-21; 8:45 am]

BILLING CODE 7020-02-P